INTERNATIONAL TRADE COMMISSION

[Investigation No. 337-TA-1245]

Certain Electronic Devices With Wireless Connectivity, Components Thereof, and Products Containing Same; Notice of Commission Determination Not To Review an Initial Determination Terminating an Investigation Based on a Settlement Agreement; Termination of Investigation

AGENCY: U.S. International Trade Commission.

ACTION: Notice.

SUMMARY: Notice is hereby given that the U.S. International Trade Commission has determined not to review an initial determination (“ID”) (Order No. 6) of the presiding administrative law judge (“ALJ”) granting a joint motion to terminate the investigation based on a settlement agreement. The investigation is terminated.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On February 8, 2021, the Commission instituted this investigation under section 337 of the Tariff Act of 1930, as amended, 19 U.S.C. 1337 (“section 337”), based on a complaint filed by Ericsson Inc. of Plano, Texas, and Telefonaktiebolaget LM Ericsson and Ericsson AB both of Stockholm, Sweden (all collectively, “Ericsson”). 86 FR 8653-54 (Feb. 8, 2021). The complaint, as supplemented, alleges a violation of section 337 based upon the importation into the United States, sale for importation, or sale after importation into the United States of certain electronic devices with wireless connectivity, components thereof, and products containing same by reason of infringement of certain claims of U.S. Patent Nos. 7,151,430; 6,879,849; 7,286,823; and 9,313,178. Id. The complaint further alleges that a domestic industry exists. Id. The notice of investigation names five respondents: Samsung Electronics Co., Ltd. of Suwon, South Korea; Samsung Electronics America, Inc. of Ridgefield Park, New Jersey; Samsung Electronics Thai Nguyen Co., Ltd. of Pho Yen, Vietnam; Samsung Electronics Vietnam Co., Ltd. of Yen Phong, Vietnam; and Samsung Electronics HCMC CE Complex, Co., Ltd. of Ho Chi Minh City, Vietnam (collectively, “Samsung”). See id.

On July 2, 2021, Ericsson and Samsung filed a joint motion to terminate this investigation in its entirety based on a settlement agreement.

On July 7, 2021 the presiding ALJ issued the subject ID granting the joint motion to terminate the investigation. See Order No. 6. The subject ID finds that the joint motion complies with Commission Rule 210.21(b)(1) (19 CFR 210.21(b)(1)) and that there are no extraordinary circumstances that would warrant denying the motion. The ID also finds that termination of the investigation based on settlement would not be contrary to the public interest.

No party petitioned for review of the subject ID.

The Commission has determined not to review the subject ID (Order No. 6). The investigation is terminated.

The Commission vote for this determination took place on August 2, 2021.

While temporary remote operating procedures are in place in response to COVID-19, the Office of the Secretary is not able to serve parties that have not retained counsel or otherwise provided a point of contact for electronic service. Accordingly, pursuant to Commission Rules 201.16(a) and 210.7(a)(1) (19 CFR 201.16(a), 210.7(a)(1)), the Commission orders that the complainant complete service for any party/parties without a method of electronic service noted on the attached Certificate of Service and shall file proof of service on the Electronic Document Information System (EDIS).

The authority for the Commission's determination is contained in section 337 of the Tariff Act of 1930, as amended (19 U.S.C. 1337), and in Part 210 of the Commission's Rules of Practice and Procedure (19 CFR part 210).

By order of the Commission.
Issued: August 2, 2021.
Katherine Hiner,
Supervisory Attorney.

[FR Doc. 2021-16761 Filed 8-4-21; 8:45 am]

BILLING CODE 7020-02-P